DEPARTMENT OF TRANSPORTATION

Coast Guard

33 CFR Part 117

[CGD01-00-194]

Drawbridge Operation Regulations: Elizabeth River, NJ

AGENCY: Coast Guard, DOT.

ACTION: Notice of temporary deviation from regulations.

SUMMARY: The Commander, First Coast Guard District, has issued a temporary deviation from the drawbridge operation regulations for the South Front Street Bridge, mile 0.0, across the Elizabeth River at Elizabeth, New Jersey. This deviation from the regulations allows the bridge owner to keep the bridge in the closed position for four days: August 29, 2000; September 19, 2000; September 21, 2000; and September 27, 2000, from 7 a.m. through 4 p.m. This action is necessary to facilitate structural repairs at the bridge.

DATES: This deviation is effective August 29, 2000 through September 27, 2000.

FOR FURTHER INFORMATION CONTACT: Judy Yee, Project Officer, First Coast Guard District, at (212) 668-7165.

SUPPLEMENTARY INFORMATION: The South Front Street Bridge, mile 0.0, across the Elizabeth River has a vertical clearance of 3 feet at mean high water, and 8 feet at mean low water in the closed position. The bridge owner, the Union County Division of Engineering, requested a temporary deviation from the operating regulations to facilitate structural repairs at the bridge. The existing operating regulations at 33 CFR 117.719(a) require the bridge to open on signal; except that, from 12 midnight to 7 a.m., the draw shall open on signal if at least three-hours advance notice is given.

This deviation to the operating regulations allows the owner of the South Front Street Bridge to keep the bridge in the closed position for four days: August 29, 2000; September 19, 2000; September 21, 2000, and September 27, 2000, from 7 a.m. through 4 p.m., to facilitate structural repairs at the bridge. Vessels that can pass under the bridge without an opening may do so at all times.

In accordance with 33 CFR 117.35(c), this work will be performed with all due speed in order to return the bridge to normal operation as soon as possible. This deviation from the operating regulations is authorized under 33 CFR 117.35.

Dated: August 8, 2000.
G.N. Naccara,
Rear Admiral, U.S. Coast Guard, Commander, First Coast Guard District.

[FR Doc. 00-20949 Filed 8-16-00; 8:45 am]

BILLING CODE 4910-15-P